FEDERAL MINE SAFETY AND HEALTH REVIEW COMMISSION

Notice of Meeting; Sunshine Act

April 13, 2006.

Time and Date: 10 a.m., Thursday, May 11, 2006.

Place: The Richard V. Backley Hearing Room, 9th Floor, 601 New Jersey Avenue, NW., Washington, DC.

Status: Open.

Matters to be Considered: The Commission will hear oral argument on the matter Secretary of Labor v. Cumberland Coal Resources, LP, Docket Nos. PENN 2044-73-R, PENN 2004-74-R, PENN 2004-75-R, PENN 2004-85-R, PENN 2004-86-R, PENN 2004-87-R, PENN 2004-88-R, PENN 2004-104-R, PENN 2004-105-R, PENN 2004-181, and PENN 2005-8. (Issues include whether substantial evidence supports the judge's findings that Cumberland violated 30 CFR 75.334(b)(1) on three occasions because its bleeder system failed to effectively dilute and carry away methane; whether substantial evidence supports the judge's finding that Cumberland had notice that its bleeder system violated 30 CFR 75.334(b)(1); and whether the judge correctly found that MSHA acted within its discretion in issuing imminent danger withdrawal orders on two occasions).

Any person attending this oral argument who requires special accessibility features and/or auxiliary aids, such as sign language interpreters, must inform the Commission in advance of those needs, subject to 29 CFR 2706.150(a)(3) and 2706.160(d).

FOR FURTHER INFORMATION CONTACT: Jean Ellen, (202) 434-9950/(202 708-9300 for TDD Relay/1-800-877-8339 for toll free.

Jean H. Ellen,
Chief Docket Clerk.

[FR Doc. 06-3810 Filed 4-18-05; 12:13 pm]

BILLING CODE 6739-01-M